NATIONAL SCIENCE FOUNDATION

Advisory Committee for Education and Human Resources

Notice of Meeting

In accordance with the Federal Advisory Committee Act (Pub. L. 92-463, as amended), the National Science Foundation announces the following meeting.

Name: Advisory Committee for Education and Human Resources (ACEHR) (#1119).

Date and Time: November 6, 8:30 a.m.-6 p.m., November 7, 8:30 a.m.-3 p.m.

Place: National Science Foundation, 4201 Wilson Boulevard, Arlington, VA 22230.

Type of Meeting: Open.

Contact Person: Jane T. Stutsman, Deputy Assistant Director Directorate for Education and Human Resources, National Science Foundation, 4201 Wilson Boulevard, Room 805, Arlington, VA 22230, 703-292-8601.

Purpose of Meeting: To provide advice and recommendations concerning NSF support for Education and Human Resources.

Agenda: Discussion of FY 2002 programs of the Directorate for Education and Human Resources and planning for future activities.

Dated: October 8, 2002.
Susanne Bolton,
Committee Management Officer.

[FR Doc. 02-26134 Filed 10-11-02; 8:45 am]

BILLING CODE 7555-01-M